DEPARTMENT OF TRANSPORTATION

Federal Aviation Administration

14 CFR Part 39

[Docket No. 2001-NM-75-AD; Amendment 39-12776; AD 2002-12-04]

RIN 2120-AA64

Airworthiness Directives; Boeing Model 757-200, -200CB, and -200PF; and 767-200, -300, and -300F Series Airplanes

AGENCY: Federal Aviation Administration, DOT.

ACTION: Final rule.

SUMMARY: This amendment adopts a new airworthiness directive (AD), applicable to certain Boeing Model 757-200, -200CB, and -200PF; and 767-200, -300, and -300F series airplanes; that requires modification of the right main landing gear and auto-speedbrake control system to provide an air/ground signal to the system. This action is necessary to prevent uncommanded deployment of the auto-speedbrake spoilers during flight, which could result in reduced controllability of the airplane. This action is intended to address the identified unsafe condition.

DATES: Effective July 23, 2002.

The incorporation by reference of certain publications listed in the regulations is approved by the Director of the Federal Register as of July 23, 2002.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Barbara Mudrovich, Aerospace Engineer, Systems and Equipment Branch, ANM-130S, FAA, Seattle Aircraft Certification Office, 1601 Lind Avenue, SW., Renton, Washington 98055-4056; telephone (425) 227-2983; fax (425) 227-1181.

SUPPLEMENTARY INFORMATION: A proposal to amend part 39 of the Federal Aviation Regulations (14 CFR part 39) to include an airworthiness directive (AD) that is applicable to certain Boeing Model 757-200, -200CB, and -200PF; and 767-200, -300, and -300F series airplanes; was published in the Federal Register on November 27, 2001 (66 FR 59185). That action proposed to require modification of the right main landing gear and auto-speedbrake control system to provide an air/ground signal to the system.

Comments

Interested persons have been afforded an opportunity to participate in the making of this amendment. Due consideration has been given to the comments received.

Supportive Comment

One commenter agrees with the proposed rule.

Revised Service Information

One commenter (the airplane manufacturer) states that Boeing representatives have reviewed Boeing Alert Service Bulletin 757-27A0130, Revision 1, dated October 11, 2001, and recommend that it be added to the final rule as another source of service information for doing certain actions for Model 757 series airplanes. The proposed rule cited Boeing Alert Service Bulletin 757-27A0130, dated August 31, 2000, as the proper source of service information for doing the specified actions.

The FAA agrees with the commenter. We have reviewed and approved Boeing Alert Service Bulletin 757-27A0130, Revision 1, as an additional source of service information for doing certain modifications specified in this final rule. We find that the changes incorporated in Revision 1 of the service bulletin are not substantive, meaning that airplanes modified per the original issue of the service bulletin are not subject to any additional work under Revision 1 of the service bulletin. Although the functional test has been changed somewhat, if the test was done per the original issue of the service bulletin it need not be done again unless an Engine Indication and Crew Alerting System message is displayed on the pitot heat system. We have revised paragraph (a) of this final rule to refer to Revision 1 of the service bulletin as the appropriate source of service information for the actions in that paragraph applicable to Model 757 series airplanes. In addition, we have added a new Note 2 (and reordered subsequent notes accordingly) to give credit for modifications done before the effective date of this AD according to the original issue of the service bulletin.

Extend Compliance Time

One commenter asks that the compliance time of 36 months, as specified in paragraph (a) of the proposed rule, be extended. The commenter states that it supports the manufacturer's recommendation of “the earliest maintenance opportunity when manpower, materials, and facilities are available.” The commenter notes that incorporating a 36-month compliance time for the modifications into the current schedule for 101 Boeing Model 757 series airplanes will negatively impact the flying public, as it will reduce operating capacity by an estimated 30 airplanes. The commenter also estimates the cost of this project at $5,246,850 and recommends that a 54-month compliance time will allow affected airplanes to continue operation without compromising safety.

A second commenter asks that the compliance time specified in the proposed rule be extended to 5 years. The commenter states that this would meet the operator's heavy check schedule and avoid special visits or extended downtime of airplanes. The commenter adds that safety of flight will not be compromised because this issue has existed since 1985 (total of 827,918 flight cycles) without an incident.

A third commenter asks that the compliance time specified in the proposed rule be extended to 48 months. The commenter states that a very limited supply of certain kits needed to accomplish the required tasks is available. The commenter adds that in many cases there is a lead time of up to three weeks for reordering the kits. The commenter notes that, due to the number of airplanes affected, the effective date of the proposed rule should be determined after Boeing produces an adequate number of the kits.

We partially agree with the commenters. We find that an increase in the compliance time will not adversely affect safety, and will allow the required modifications to be completed during a regularly scheduled maintenance visit, and allow time for procurement of the required kits. We have revised paragraph (a) of this final rule to require accomplishment of the modifications within 60 months after the effective date of the AD. However, we do not agree that the effective date of the AD should be determined after production of the kits. The manufacturer has assured us that production of the kits will meet the compliance time specified in this final rule.

Include Revision 2 of Service Information

One commenter asks that Revision 2 of the referenced service bulletin be added to the proposed rule for doing the specified actions, although the original issue was cited in the proposed rule as the proper source of service information for doing those actions. The commenter states that several operators have requested additional changes to Revision 1 of the service bulletin (specified above) to clarify certain procedures in the accomplishment instructions and effectivity installations of components.

We do not agree with the commenter. Although we have confirmed with the manufacturer that Revision 1 of the service bulletin is being revised, that revision (Revision 2) is not yet completed. However, when that revision has been reviewed and approved by us, we would consider this option under the provisions for requesting approval of an alternative method of compliance in paragraph (b) of this final rule. No change is made to the final rule in this regard.

Change Certain Wording

One commenter asks that a statement be added to the proposed rule or the referenced service information to state, “where inner and outer ferrules are called out in the service bulletin, an equivalent solder sleeve part number is acceptable.” The commenter adds that solder sleeves meet environmental and system temperature requirements.

We do not agree with the commenter. The manufacturer has informed us that the use of solder sleeves is not recommended due to fire safety concerns in the work area. No change is made to the final rule in this regard.

Proposed Actions Unnecessary for Model 757 Series Airplanes

One commenter states that the actions specified in the proposed rule are not necessary for Model 757 series airplanes. The commenter notes that uncommanded deployment of the auto-speedbrake spoiler during flight was a repeated condition for a Model 767 series airplane, and was reported by one operator at a single geographical location. The commenter adds that the digital flight data recorder showed that the air/ground systems momentarily went into ground mode and the crew was able to recover control of the airplane. The commenter also adds that the manufacturer stated that the proximity switch electronic unit (PSEU) did not provide the critical auto-speedbrake system with the level of redundant protection against an unwanted auto-speedbrake spoiler extension. The commenter further notes that the PSEU auto-speedbrake system is designed with built-in redundancy, and, in order to prevent a critical single-point failure, both outputs from systems 1 and 2 must correspond for the PSEU to signal ground mode. The commenter asserts that there may have been external factors at the geographical location that contributed to this anomaly. Additionally, the commenter suggests that inferring that Model 757 and 767 series airplanes will respond similarly under the same circumstances is speculative and lacks supporting analysis. The commenter believes that this anomaly can be addressed effectively by appropriate flight crew notification and awareness through training.

We do not agree with the commenter. The auto-speedbrake systems for Model 757 and 767 series airplanes are equivalent in design and installation. Reliability of the Model 757 and 767 PSEUs is not adequate, as evidenced by the two incidents of in-flight auto-speedbrake deployment during landing approach that are identified in the proposed rule. This final rule will require operators to add a third signal to the auto-speedbrake that is independent of the PSEUs and that will increase redundancy of the system, in order to meet FAA regulations. No change is made to the final rule in this regard.

Change Cost Impact Information

One commenter asks that gaining access and closeup of the airplane be added to the cost impact section of the proposed rule. The commenter states that this is a significant amount of work, and provides a breakdown of the cost estimates for each work package.

We do not agree with the commenter. We stated in the “Cost Impact” section of the NPRM that, “The cost impact figures discussed in AD rulemaking actions represent only the time necessary to perform the specific actions actually required by the AD. These figures typically do not include incidental costs, such as the time required to gain access and close up, planning time, or time necessitated by other administrative actions.” Thus, no change to the final rule is made in this regard.

Conclusion

After careful review of the available data, including the comments noted above, the FAA has determined that air safety and the public interest require the adoption of the rule with the changes previously described. The FAA has determined that these changes will neither increase the economic burden on any operator nor increase the scope of the AD.

Cost Impact

There are approximately 1,654 airplanes of the affected design in the worldwide fleet. The FAA estimates that 583 Model 757 series airplanes and 292 Model 767 series airplanes of U.S. registry will be affected by this AD. The work hours and cost estimates for the required modifications are listed below:

Boeing Alert Service Bulletin 757-27A0130*
Work package | Work hours @ $60/wh | Cost per airplane without parts | Fleet cost without parts
1 | 50 | $3,000 | $1,749,000
2 | 32 | 1,920 | 1,119,360
3 | 12 | 720 | 419,760
* Parts cost for Model 757 series airplanes is between $8,953 and $10,630 per airplane.

Boeing Alert Service Bulletin 767-27A0160*
Work package | Work hours @ $60/wh | Cost per airplane without parts | Fleet cost without parts
1 | 11 | $660 | $192,720
2 | 18 | 1,080 | 315,360
3 | 2 | 120 | 35,040
4 | 15 | 900 | 262,800
* Parts cost for Model 767 series airplanes is between $7,132 and $8,224 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-12-04 Boeing: Amendment 39-12776. Docket 2001-NM-75-AD.

Applicability: Model 757-200, -200CB, and -200PF series airplanes, line numbers 1 through 895 inclusive; and Model 767-200, -300, and -300F series airplanes, line numbers 1 through 759 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To provide a second air/ground signal to the auto-speedbrake control system to prevent uncommanded deployment of the auto-speedbrake spoilers during flight, which could result in reduced controllability of the airplane, accomplish the following:

Modifications

(a) Within 60 months after the effective date of this AD: Modify the right main landing gear and auto-speedbrake control system according to Work Packages 1 through 3 of the Accomplishment Instructions of Boeing Alert Service Bulletin 757-27A0130, Revision 1, dated October 11, 2001 (for Model 757 series airplanes); or Work Packages 1 through 4 of the Accomplishment Instructions of Boeing Alert Service Bulletin 767-27A0160, dated December 20, 2000 (for Model 767 series airplanes); as applicable.

Note 2: Modification of the right main landing gear and auto-speedbrake control system done before the effective date of this AD according to Boeing Alert Service Bulletin 757-27A0130, dated August 31, 2000, is considered acceptable for compliance with the applicable modification specified in paragraph (a) of this AD.

Note 3: Boeing Alert Service Bulletin 757-27A0130 specifies that each work package can be done independently or at the same time, in any sequence, but the functional tests in Work Package 3 should be done last. Boeing Alert Service Bulletin 767-27A0160 specifies that each work package can be done independently or at the same time, in any sequence, but Work Package 4 should be done last.

Alternative Methods of Compliance

(b) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 4: Information concerning the existence of approved alternative methods of compliance with this AD, if any, may be obtained from the Seattle ACO.

Special Flight Permits

(c) Special flight permits may be issued in accordance with sections 21.197 and 21.199 of the Federal Aviation Regulations (14 CFR 21.197 and 21.199) to operate the airplane to a location where the requirements of this AD can be accomplished.

Incorporation by Reference

(d) The modifications shall be done in accordance with Boeing Alert Service Bulletin 757-27A0130, Revision 1, dated October 11, 2001; and Boeing Alert Service Bulletin 767-27A0160, dated December 20, 2000, as applicable. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(e) This amendment becomes effective on July 23, 2002.

Issued in Renton, Washington, on June 4, 2002.
Ali Bahrami,
Acting Manager, Transport Airplane Directorate, Aircraft Certification Service.

[FR Doc. 02-14698 Filed 6-17-02; 8:45 am]

BILLING CODE 4910-13-P